FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011931-006.

Title: CMA CGM/Marfret Vessel Sharing Agreement.

Parties: CMA CGM S.A., CMA CGM (UK) Limited, and Compagnie Maritime Marfret S.A.

Filing Party: Draughn B. Arbona, Esq.; Senior Counsel; CMA CGM (America), LLC. 5701 Lake Wright Drive, Norfolk, VA 23502-1868.

Synopsis: The amendment would provide for ad hoc space charters from CMA CGM to Marfret in the event of service disruptions due to port omissions.

Agreement No.: 011938-007.

Title: HSDG/Alianca/Norasia/Libra/CLNU Vessel Sharing Agreement.

Parties: Hamburg-Sud (“HSDG”); Alianca Navegacao e Logistica Ltda. e Cia (“Alianca”); Compania Sud Americana de Vapores, S.A.; Companhia Libra de Navegacao; Compania Libra de Navigacion Uruguay S.A.; and Norasia Container Lines Limited.

Filing Party: Walter H. Lion, Esq.; McLaughlin & Stern, LLP; 260 Madison Avenue; New York, NY 10018.

Synopsis: The amendment modifies the Agreement to reflect CSAV's transfer of its container shipping business to its wholly-owned subsidiary, Norasia, modifying agreement provisions accordingly.

Agreement No.: 011962-011.

Title: Consolidated Chassis Management Pool Agreement.

Parties: The Ocean Carrier Equipment Management Association and its member lines; the Association's subsidiary Consolidated Chassis Management LLC and its affiliates; CCM Holdings LLC; CCM Pools LLC and its subsidiaries; Matson Navigation Co.; and Westwood Shipping Lines.

Filing Party: Donald J. Kassilke, Esq.; Cozen O'Conner; 1627 I Street NW., Suite 1100, Washington, DC 20006-4007.

Synopsis: The Amendment would authorize the licensing of pool management software systems to third parties and would authorize management of third party chassis pools.

Agreement No.: 012204-003.

Title: ELJSA-Hanjin Shipping Slot Exchange Agreement.

Parties: Evergreen Line Joint Service Agreement and Hanjin Shipping Co. Ltd.

Filing Party: Paul M. Keane, Esq.; Cichanowicz, Callan, Keane, Vengrow and Textor, LLP; 61 Broadway, Suite 3000; New York, NY 10006.

Synopsis: The amendment would add port calls at Hong Kong and Singapore.

Agreement No.: 201143-011.

Title: West Coast MTO Agreement.

Parties: APM Terminals Pacific, Ltd.; California United Terminals, Inc.; Eagle Marine Services, Ltd.; International Transportation Service, Inc.; Long Beach Container Terminal, Inc.; Seaside Transportation Service LLC; Trapac, Inc.; Total Terminals LLC; West Basin Container Terminal LLC; Yusen Terminals, Inc.; Pacific Maritime Services, L.L.C.; SSA Terminals, LLC; and SSA Terminal (Long Beach), LLC.

Filing Party: Wayne R. Rohde, Esq.; Cozen O'Connor; 1627 I Street NW., Suite 1100, Washington, DC 20006.

Synopsis: The amendment would authorize the parties to discuss, agree upon, establish, revise, maintain, cancel and enforce terminal rates and rules with respect to on-terminal storage of equipment.

By Order of the Federal Maritime Commission.
Dated: July 11, 2014.
Karen V. Gregory,
Secretary.

[FR Doc. 2014-16717 Filed 7-15-14; 8:45 am]

BILLING CODE 6730-01-P